DEPARTMENT OF THE TREASURY

Bureau of Engraving and Printing

Record of Decision for the Proposed Construction and Operation of a Currency Production Facility Within the National Capital Region

AGENCY: Bureau of Engraving and Printing, Department of the Treasury.

ACTION: Notice of availability (NOA).

SUMMARY: The U.S. Department of the Treasury (Treasury), Bureau of Engraving and Printing (BEP) announces the availability of the Record of Decision (ROD) for the proposed construction and operation of a Currency Production Facility (CPF) within the National Capital Region (NCR) (Proposed Action). Treasury previously published its Final Environmental Impact Statement (EIS) for the Proposed Action on June 4, 2021.

In accordance with the National Environmental Policy Act (NEPA), the ROD identifies all alternatives Treasury considered for the Proposed Action, identifies the environmentally preferable alternative, states Treasury's decision to implement the Preferred Alternative, and discusses factors balanced by the agency in making its decision. The ROD also adopts all practicable mitigation measures to avoid or minimize environmental harm and commits to monitoring their implementation. The Proposed Action will replace Treasury's insufficient Washington, DC production facility (DC Facility), and will provide Treasury with a modern, scalable, sufficiently sized production facility within the NCR that meets Treasury's needs. Treasury has also signed a Finding of No Practicable Alternative (FONPA) addressing potential impacts on wetlands Executive Order 11990, Protection of Wetlands.

DATES: Treasury's Acting Assistant Secretary for Management signed the ROD on October 8, 2021.

ADDRESSES: Electronic copies of the ROD, Final EIS, FONPA, and other related materials are available on the project website at https://www.nab.usace.army.mil/home/bep-replacement-project. If you cannot access the materials online, you may request hard copies of the materials via the methods identified in the FOR FURTHER INFORMATION CONTACT section of this NOA.

FOR FURTHER INFORMATION CONTACT: Please contact Mr. Harvey Johnson, USACE—Baltimore, Programs and Project Management Division: (1) By email to: BEP-EIS@usace.army.mil; (2) by phone at: (410) 977-6733; or (3) by mail to: U.S. Army Corps of Engineers, Baltimore District, ATTN: Bureau of Engraving and Printing (BEP) Project EIS, Michael Schuster, Planning Division, 2 Hopkins Plaza, 10th Floor, Baltimore, MD 21201.

SUPPLEMENTARY INFORMATION: BEP's mission includes manufacturing U.S. currency notes; research, development, testing, and evaluation of counterfeit deterrents; and development of production automation technologies. Treasury currently operates two production facilities for this purpose: The DC Facility and a facility in Fort Worth, Texas. The DC Facility has been in operation for more than 100 years and is neither able to support modern currency production nor able to support Treasury's, and specifically the BEP's, current and future mission.

Within the DC Facility, manufacturing processes are inefficient and inflexible. The DC Facility's configuration poses safety risks to staff, and the downtown location of the DC Facility prevents Treasury from complying with physical security standards. The condition, configuration, and location of the DC Facility severely limit Treasury's ability to modernize the DC Facility through renovation, rendering modernization of existing facilities an untenable long-term solution.

Over the past 20 years, Treasury has considered several scenarios to address the inadequacy of its current facilities in the NCR, including renovation of the DC Facility and new construction within the NCR. Treasury concluded that construction of a new replacement CPF, as opposed to renovation of the DC Facility, was the most efficient and cost-effective option. As such, Treasury, on behalf of the BEP, proposed to construct and operate a new CPF within the NCR to replace its existing DC Facility. The Proposed Action will provide Treasury with a modern, scalable, sufficiently sized production facility, resulting in more efficient, streamlined currency production, while allowing Treasury to maintain its presence within the NCR.

Treasury's Final EIS analyzed the potential environmental, cultural, and socioeconomic impacts associated with the Proposed Action, including cumulative effects. Minimization of adverse effects through avoidance and environmentally sensitive design will be used to avoid impacts to sensitive resources to the maximum extent practicable. Where these efforts are not sufficient to avoid adverse effects, the Final EIS identified additional mitigation measures that Treasury may implement to further reduce identified adverse impacts. The ROD identifies the mitigation measures that Treasury formally commits to implement and monitor.

In support of the EIS, Treasury, with assistance from USACE, conducted site-specific studies in accordance with federal and state requirements, such as Sections 404/401 of the Clean Water Act (CWA) and Section 106 of the National Historic Preservation Act.

As part of the planning process, Treasury gathered data on numerous potential sites in the NCR that had the potential to support Treasury's initial minimum criteria for construction of a new CPF. Treasury evaluated each potential site against various screening criteria to identify reasonable alternatives. Following an extensive and thorough screening process, Treasury identified one reasonable Action Alternative (the Preferred Alternative) that would meet the purpose of and need for the Proposed Action. This Preferred Alternative is summarized below and analyzed in detail in the Final EIS.

Preferred Alternative: Beltsville Agricultural Research Center (BARC) 200 Area—Former Poultry Research Area

This alternative includes a 104.2-acre parcel of land located in BARC's Central Farm in the 200 Area building cluster (Treasury's proposed parcel). The parcel is located in Prince George's County, Maryland, between Odell Road to the north and Powder Mill Road to the south; Poultry Road runs north to south through the parcel. The parcel, generally consisting of grassland, cropland, scattered trees, and abandoned buildings, is available for redevelopment. Treasury would construct a new entrance road connecting its proposed parcel to Powder Mill Road and would construct several minor modifications to Powder Mill Road in the vicinity of the new intersection. The entrance road and Powder Mill Road modifications require construction activities in an additional 18-acre area, bringing the combined Project Site to a total of approximately 122 acres.

Treasury also carried forward the No Action Alternative for detailed analysis in the Final EIS. While the No Action Alternative would not satisfy the purpose of or need for the Proposed Action, Treasury retained this Alternative to provide a comparative baseline against which to analyze the effects of the Preferred Alternative as required under the Council on Environmental Quality's NEPA regulations (40 Code of Federal Regulations 1502.14[c]).

Resource areas analyzed in the Final EIS include: Land use; visual resources; air quality; noise; topography and soils; water resources; biological resources; cultural resources; traffic and transportation; utilities; socioeconomics and environmental justice (EJ); hazardous and toxic materials and waste; and human health and safety. Treasury dismissed air space, recreation, and geology from detailed study. Treasury determined the Proposed Action has no potential to cause significant adverse impacts to these resource areas.

Based on the Final EIS analysis, without implementation of mitigation measures, significant adverse impacts could occur to visual resources, water resources, cultural resources, traffic and transportation, and EJ communities (i.e., due to disproportionate adverse traffic impacts). Impacts to all other resource areas would be less-than-significant adverse, negligible, or beneficial. However, in the ROD, Treasury has adopted all practicable means to avoid or minimize environmental harm from the Preferred Alternative. These mitigation measures will further minimize identified potential adverse impacts to each of these resource areas. Importantly, all potential significant adverse impacts will be reduced to less-than-significant levels.

The Preferred Alternative for the Proposed Action will also adversely impact wetlands. Accordingly, Treasury has prepared a FONPA to comply with Executive Order 11990. As described in the Final EIS and ROD, regulatory compliance measures (e.g., permitting under Sections 404/401 of the CWA) and adopted mitigation measures will be implemented to minimize adverse impacts on wetlands.

A Notice of Intent to prepare an EIS for the proposed project was published in the Federal Register on November 15, 2019 (84 FR 62565) and the public scoping period closed on December 15, 2019. Treasury held one public scoping meeting on December 3, 2019. A Notice of Availability of the Draft EIS was published in the Federal Register on November 6, 2020 (85 FR 71074) and the public review and comment period closed on December 21, 2020. Treasury held a Virtual Public Meeting on December 2, 2020. Treasury considered and addressed in the Final EIS comments received on the Draft EIS during the comment period. A Notice of Availability of the Final EIS was published in the Federal Register on June 4, 2021 (86 FR 30040).

Treasury has taken into consideration information and analyses presented in the Final EIS, including potential environmental impacts and recommended mitigation measures; supporting studies; consultation with agencies and Native American Tribes; and the comments received from the public during formal review and comment periods. Treasury has also evaluated our national currency production needs, the BEP's mission requirements, and the purpose of and need for the Proposed Action. Based on these considerations, it is the decision of Treasury to implement the Preferred Alternative and the associated mitigation measures as outlined in the ROD.

Dated: October 15, 2021.
Charles C. Davis,
Project Manager, Bureau of Engraving and Printing.

[FR Doc. 2021-22909 Filed 10-20-21; 8:45 am]

BILLING CODE P